DEPARTMENT OF TRANSPORTATION

Federal Railroad Administration

Petition for Waiver of Compliance

In accordance with Title 49 Code of Federal Regulations (CFR), §§ 211.9 and 211.41 notice is hereby given that the Federal Railroad Administration (FRA) has received a request for waiver of compliance from certain requirements of Federal railroad safety regulations. The individual petition is described below, including the parties seeking relief, the regulatory provisions involved, the nature of the relief being requested and the petitioner's arguments in favor of relief.

National Railroad Passenger Corporation

Union Pacific Railroad

[Docket Number FRA-2002-12836]

The Union Pacific Railroad (UP) and The National Railroad Passenger Corporation (Amtrak) seek a waiver of compliance from certain sections of 49 CFR parts 216, Special Notice and Emergency Order Procedures: Railroad Track, Locomotive and Equipment; 217, Railroad Operating Rules; 218, Railroad Operating Practices; 229, Railroad Locomotive Safety Standards; 233, Signal Systems Reporting Requirements; 235, Instructions Governing Applications for Approval of a Discontinuance or Material Modification of a Signal System or Relief from the Requirements of part 236; 236, Rules, Standards, and Instructions Governing the Installation, Inspection, Maintenance, and Repair of Signal and Train Control Systems, Devices, and Appliances; and 240, Qualification and Certification Of Locomotive Engineers, under § 211.51, Tests, to allow them to develop, implement, and test technology designed to prevent train collisions and overspeed violations and to protect track maintenance personnel from trains. The program will enable the industry to demonstrate and validate the technology, referred to as Positive Train Control, (PTC) before it is implemented on a larger scale.

PTC is a communications-based train control system designed to monitor each communicating train's position, velocity, and acceleration in real time and prompt the engineer to take action before a violation occurs associated with the limits of authority, track bulletins, track speed, temporary speed restrictions, and working limits of track maintenance personnel. If the engineer fails to take the necessary action to slow or stop the train, PTC will initiate a full service brake application to stop the train before a violation occurs.

PTC will interface with the UP computer-aided dispatching (CAD) system, from which it will receive track bulletins, form-based authorities, and the dispatcher's requests for switches and signals. The PTC system will consist of four segments that work together to provide enforcement against train movement violations: the central office segment; the locomotive segment; the wayside segment, and the communications segment. The central office segment will consist of the PTC server that will develop and issue enforceable movement authorities and speed restrictions for each PTC-equipped train. This information is sent through the communications segment to the locomotive segment located on board the controlling locomotive of each train. The locomotive segment enforces a train's movement and speed limits by monitoring the train's location and speed, providing warnings, and applying the brakes to stop the train if necessary to prevent a violation of speed limit or authority. The wayside segment monitors the status of switches, signals, and track circuits, and forwards this status, via the communications segment, to the central office segment. The locomotive and wayside segments work in concert to provide for the advance activation of grade crossings with constant warning times for train speeds greater than 79 mph.

The PTC program will be tested and demonstrated on the UP's Joliet and Springfield subdivisions in the State of Illinois between Mazonia, milepost 62.6 and Ridgley, milepost 181.0, a distance of approximately 118.4 miles. Relief is sought for the PTC test operations on all main track and signalized sidings between Mazonia and Ridgley. The present method of operation in the territory is by signal indications of a traffic control system. The current method of operation will remain in effect whether PTC is operative, fails, or is cut-out. Tests at speeds of 80 mph or more ,or those involving the display of the PTC aspect on wayside signals will be conducted under Absolute Block conditions only. During tests at speeds of 80 mph or more, flaggers will provide warning in each direction of highway traffic at crossings equipped with active crossing signals. No PTC tests requiring the exercise of the requested waiver will be conducted on revenue trains. Benign tests not requiring the exercise of the requested waivers such as tests of communications coverage or location determination system accuracy may be conducted using revenue trains.

PTC testing will temporarily require additional operating practices of a benign nature, but only on PTC-equipped test trains and only when a test is in progress. The additional operating practices contemplated for PTC test trains will include PTC initialization procedures, digital transmission and onboard display of authorities and restrictions, enforcement of limits of authority and speed limits/restrictions through automatic brake applications, and procedures for recovery following an enforcement action.

The waiver is requested for a testing period commencing September 1, 2002, and extending to the conclusion of the test phase. The test period is not expected to exceed two years and will terminate August 31, 2004, unless the UP notifies the FRA of an earlier termination date. A high speed demonstration run will be conducted in the test territory. This demonstration will allow Railroad, Government, and contractor officials the opportunity to witness the operation of the PTC system.

The following are the current waiver requests and the petitioners' justification:

Section 216.13

Special notice for repairs—locomotive. Waiver is requested for PTC-equipped locomotives to the extent that non-operation of PTC equipment installed on board, whether through malfunction or deactivation shall not be construed as an unsafe condition requiring special notice for repairs; waiver is sought for non-PTC-equipped locomotives operating in the PTC pilot territory to the extent that the absence of PTC equipment on board shall not be construed as an unsafe condition requiring special notice for repairs.

Justification: With or without PTC equipment operating on board the controlling locomotive, a train remains subject to existing operating rules. PTC tests require flexibility in installing, removing, turning on, and turning off the on-board equipment. The PTC tests will involve only a small subset of locomotives that will be PTC-equipped for testing.

Section 217.9

Program of operational tests and inspections; recordkeeping. Waiver is requested exempting operation of PTC equipment and procedures from the requirements for operational tests and inspections and associated recordkeeping.

Justification: During the PTC test phase, procedures for using PTC equipment and functions will be refined and modified. Until such procedures are defined, they cannot be addressed in the General Code of Operating Rules (GCOR). In any case, PTC is expected to have minimal impact on the operating rules.

Section 217.11

Program of instruction on operating rules; recordkeeping; electronic recordkeeping. Waiver is requested exempting tests of PTC equipment and procedures from the requirements for instruction and recordkeeping.

Justification: During the PTC test phase, procedures for using PTC equipment and functions will be refined and modified. Until such procedures are defined they cannot be addressed in the GCOR. In any case PTC is expected to have minimal impact on the operating rules.

Part 218

(Subpart D) Prohibition Against Tampering With Safety Devices. Waiver is requested exempting onboard PTC equipment from the requirements of §§ 218.51, 218.53, 218.55, 218.57, 218.59, and 218.61 to the extent that PTC equipment on board a locomotive shall not be considered a “safety device” subject to the provisions of this subpart at any time during the test phase.

Justification: PTC tests require flexibility in installing, removing, turning on, and turning off the onboard equipment. The UP also needs the flexibility to permanently disable or remove PTC equipment in the event that a production system is not implemented.

Section 229.135

Event recorders. Waiver is requested to the extent that PTC equipment on board a locomotive shall not be considered an “event recorder” subject to the provisions of this section during the test phase.

Justification: PTC equipment by design will operate intermittently during the test phase. The data accumulated by the onboard PTC equipment will be used to develop and refine PTC functions. Such data can be expected to contain anomalies that do not reflect true operating conditions but by analysis will contribute to achieving necessary objectives in the PTC design.

Section 233.9

Annual reports. Waiver is requested exempting PTC operations in the test phase from the reporting requirements of this section.

Justification: PTC tests require flexibility in installing, removing, turning on, and turning off PTC equipment. UP also requires the flexibility to permanently disable or remove PTC equipment in the event that a production system is not implemented.

Section 235.5

Changes requiring filing of application. Waiver is requested exempting the PTC from the requirements of this section during the test phase.

Justification: PTC tests require flexibility in installing, removing, modifying, turning on, and turning off the PTC equipment. UP also requires the flexibility to permanently disable or remove PTC equipment in the event that a production system is not implemented.

Section 236.0

Applicability, minimum requirements, and civil penalties. Waiver is requested from the requirements of paragraph (d) to the extent that PTC may be tested on test trains operated at speeds of 80 or more miles per hour.

Justification: During the PTC test phase, PTC will be tested to assure the system will function as intended at all speeds up to but not exceeding 110 mph. Tests at speeds of 80 or more mph will be made under absolute block conditions with no other train present. In addition, an appropriately equipped flagger will provide warning for each direction of highway traffic at each crossing equipped with active crossing warning signals for each test run made a speeds of 80 or more mph.

Section 236.4

Interference with normal functioning of device. Waiver is requested to the extent that PTC equipment shall be excluded from this requirement during the test phase.

Justification: During the PTC test phase, the “normal functioning” of PTC will be identified, defined and refined. PTC tests require flexibility in installing, removing, turning on, and turning off the PTC equipment. With or without PTC equipment operating on board the controlling locomotive, the train remains subject to the provisions of the rules governing the existing methods of operation.

Section 236.5

Design of control circuits on closed circuit principle. Waiver is requested excepting PTC equipment from the closed circuit design requirement.

Justification: PTC is composed of solid-state components that are software driven. Neither the hardware nor software can technically be designed to meet the provisions of this section.

Section 236.11

Adjustment, repair, or replacement of component. Waiver is requested exempting PTC components on board a locomotive from the requirements of this section.

Justification: PTC tests require flexibility in installing, removing, modifying, turning on and turning off PTC equipment. Failure of a PTC component during the test phase will not jeopardize the safety of train operations.

Section 236.15

Timetable instructions. Waiver is requested exempting the PTC territory from the timetable designation requirement of this section during the PTC test phase.

Justification: The PTC test phase will consist of tests and demonstrations, at undetermined levels and identifying the test territory in the timetable as would be both premature and an unnecessary paperwork burden.

Section 236.23

Aspects and indications. Waiver is requested to the extent that the PTC display on board an equipped locomotive shall not be construed to represent or correspond to signal aspects or indications subject to the requirements of this section.

Justification: The PTC design excludes any visual display of signal aspects or indications. PTC enforceable authorities, which may or may not derive from signal indications on board. Text authorities, such as track bulletins, are displayed to the train crew. Since PTS is a safety overlay, trains remain subject to wayside signals. Information on the PTC display will correspond with but in no way represent authority conveyed through wayside signals.

Section 236.76

Tagging of wires and interference of wires or tags with signal apparatus. Waiver is requested exempting PTC equipment from the wire tagging requirement.

Justification: PTC hardware consists of computers, computer peripherals, and communication devices. While the inapplicability of this section to circuit boards, connectors, and cables would appear obvious, waiver is sought for clarification.

Section 236.101

Purpose of inspection and tests; removal from service of relay or device failing to meet test requirements. Waiver is requested exempting PTC equipment from the requirement for removal of failed equipment from service.

Justification: PTC tests require flexibility in installing, removing, turning on, and turning off the equipment. With or without PTC equipment operating on board, a train remains subject to the safety provisions of existing method of operation.

Section 236.107

Ground tests. Waiver is requested exempting PTC equipment from the requirement for ground testing during the test phase.

Justification: PTC hardware consists of computers, computer peripherals, and communication devices. Ground tests would serve no purpose in ensuring safety and could be damaging to this equipment.

Section 236.109

Time releases, timing relays and timing devices. Waiver is requested exempting PTC equipment from the testing requirement of this section during the test phase.

Justification: The timing devices in PTC equipment are software-driven, have no moving parts, and are far more reliable than the devices for which this regulation was promulgated to address.

Section 236.110

Results of tests. Waiver is requested exempting PTC tests from the record keeping requirements of this section.

Justification: During the PTC test phase, the types of tests necessary to ensure appropriate levels of maintenance will be defined.

Section 236.501

Forestalling device and speed control. Waiver is requested exempting PTC from the requirement for medium-speed restriction.

Justification: PTC will not be connected to the signal system in the same manner as a conventional automatic train control system and will not enforce speed restrictions indicated by signal aspects. PTC will enforce permanent speed restrictions reflected in the track database, temporary speed restrictions issued through the CAD system, and speed reductions as required by the limits of authority or conditions ahead.

Section 236.504

Operation interconnected with automatic block-signal system. Waiver is requested exempting PTC from the requirement of interconnection with an automatic block-signal system.

Justification: PTC will not be connected to the signal system in the same manner as a conventional automatic train stop, train control, or cab signal system. However PTC will receive input from the signal system and operate to perform its intended function in the event of failure of the engineer to obey a restrictive condition displayed in the cab.

Section 236.511

Cab signals controlled in accordance with block conditions stopping distance in advance. Waiver is requested exempting the PTC onboard display from the cab-signal requirements in this section.

Justification: PTC is not an automatic cab signal system and will not be connected to the signal system in the same manner as a conventional cab signal system, but will receive input from the signal system that forms the basis for limits of authority and high speed operations that will be depicted on the PTC display.

Section 236.514

Interconnection of cab signal system with roadway signal system. Waiver is requested exempting PTC from the requirement of interconnection with a roadway signal system.

Justification: PTC system will not be connected to the roadway signal system in the same manner as a conventional cab signal system, but will receive input from the signal system that forms the basis for limits of authority and high speed operations.

Section 236.515

Visibility of cab signals. Waiver is requested exempting any PTC display from the visibility requirement of this section during the test phase.

Justification: PTC is not a cab signal system and the design excludes any visual representation of signal aspects or indications.

Section 236.534

Entrance to equipped territory; requirements. Waiver is requested exempting the PTC from the requirements of this section during the test phase.

Justification: PTC tests require flexibility in installing, removing, turning on, and turning off PTC equipment.

Section 236.551

Power supply voltage; requirement. Waiver is requested exempting the onboard PTC power supply from the voltage requirement in this section.

Justification: PTC onboard equipment will function with more than a 50% variation in voltage.

Section 236.552

Insulation resistance; requirement. Waiver is requested exempting PTC equipment from the insulation resistance requirement of this section.

Justification: PTC on-board equipment consists of computers, computer peripherals, and communications equipment. Insulation resistance tests could be damaging to such components.

Section 236.553

Seal, where required. Waiver is requested exempting PTC from the seal requirement of this section.

Justification: The PTC system will allow for manual disablement of on-board PTC functions and equipment both remotely from the dispatching office and through an onboard manual function. Use of the onboard cutout function will be electronically monitored and reported to the dispatcher as an alarm.

Section 236.566

Locomotive of each train operating in train stop, train control or cab signal territory; equipped. Waiver is requested to the extent that the equipment requirements in this section shall not apply to PTC during the test phase.

Justification: A small subset of locomotives operating in the test territory will be PTC-equipped; the majority of trains will not be equipped. PTC tests require flexibility in installing, removing, turning on and turning off the onboard equipment. In any case, all PTC tests will be conducted under the provisions of the rules governing the existing rules of operation.

Section 236.567

Restrictions imposed when device fails and/or is cut out enroute. Waiver is requested exempting PTC tests from the restrictions associated with device failure or cutout.

Justification: PTC tests require flexibility in installing, removing, turning on and turning off the onboard equipment. All PTC tests will be conducted under the provisions of the rules governing the existing methods of operation and a failure or deactivation of PTC equipment will not jeopardize safety of train operations.

Section 236.586

Daily or after trip test. Waiver is requested exempting the PTC from the requirements of this section during the test phase.

Justification: During the PTC test phase, the requirements for a daily or after trip test, if necessary, will be defined. An objective is to perform this test without human intervention.

Section 236.587

Departure test. Waiver is requested exempting the PTC from the requirements of this section during the test phase.

Justification: During the PTC test phase, the requirements for a departure test will be defined. An objective is to perform this test without human intervention.

Section 236.588

Periodic test. Waiver is requested exempting PTC from the requirements of this section during the test phase.

Justification: During the PTC test phase, the requirements for periodic testing will be defined.

Section 236.703

Aspect. Clarification is requested exempting the PTC display from this definition.

Justification: PTC is not an automatic cab signal system and its design does not include any visual representation of signal aspects or indications.

Section 236.805

Signal, cab. Clarification is requested exempting the PTC display from this definition.

Justification: PTC is not an automatic cab signal system and its design does not include any visual representation of signal aspects or indications.

Section 240.127

Criteria for examining skill performance. Waiver is requested exempting PTC from the testing requirements of this section during the PTC test phase.

Justification: Criteria and procedures for PTC performance evaluation do not yet exist; they will be identified during the PTC test phase.

Section 240.129

Criteria for monitoring operational performance of certified engineers. Waiver is requested exempting PTC from the performance monitoring procedures during the PTC test phase.

Justification: Criteria and procedures for PTC performance evaluation do not yet exist; they will be identified and defined during the PTC test phase.

It is acknowledged for clarification that PTC, when fully operative during the test phase, will comply with the following regulations:

Part 234

Grade crossing signal system safety. All sections.

Section 236.8

Operating characteristics of electromagnetic, electronic, or electrical apparatus. PTC computing equipment will comply with this regulation.

Section 236.501

Forestalling device and speed control. PTC is designed to enforce maximum authorized speeds, speed restrictions, slow speed and absolute stop. PTC will comply with Section 236.501 except for paragraph (b)(2).

Section 236.502

Automatic brake application, initiation by restrictive block conditions stopping distance in advance. PTC is designed to initiate an automatic brake application stopping distance in advance of the end of limits of authority; a train or locomotive; or the beginning of each lower speed restriction in the route.

Section 236.503

Automatic brake application; initiation when predetermined rate of speed exceeded. PTC will comply with this regulation.

Section 236.505

Proper operative relation between parts along roadway and parts on locomotive. PTC will function as intended under all conditions of speed, weather, oscillation and shock. PTC will comply with this regulation.

Section 236.506

Release of brakes after automatic application. After a PTC-initiated brake application, brakes cannot be released until the train is stopped.

Section 236.507

Brake application; full service. PTC will comply with this regulation.

Section 236.508

Interference with application of brakes by means of brake valve. PTC equipment will not interfere with or impair the efficiency of the automatic or independent brake valves.

Section 236.509

Two or more locomotives coupled. PTC will be made operative only on the controlling locomotive; however, PTC tests that do not affect train operations may occur on trailing locomotives.

Section 236.513

Audible indicator. The audible indicator for PTC will have a distinctive sound and be clearly audible under all operating conditions.

Section 236.516

Power supply. PTC equipment will have its own isolated power supply.

Section 236.565

Provision made for preventing operation of pneumatic brake-applying apparatus by double-heading cock; requirement. Operation of the double-heading cock (cutoff pilot valve) will not cut out PTC before the automatic brake is cut out.

Section 236.590

Pneumatic apparatus. Pneumatic apparatus will be inspected and cleaned as required.

Part 236 Subpart G

Definitions. As applicable except § 236.703 and § 236.805.

Interested parties are invited to participate in these proceedings by submitting written views, data or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12113) and must be submitted to the Docket Clerk, DOT Central Docket Management Facility, Room PL-401, Washington, DC., 20590-0001. Communications received within 30 days of the date of this notice will be considered by FRA before final action is taken. Comments received after that date will be considered as far as practicable. All written communications concerning these proceedings are available for examination during regular business hours (9 a.m.-5 p.m.) at the above facility. All documents in the public docket are also available for inspection and copying on the internet at the docket facility's Web site at http://dms.dot.gov.

Issued in Washington, DC.
Edward W. Pritchard,
Acting Director, Office of Safety Assurance and Compliance.

[FR Doc. 02-19134 Filed 7-29-02; 8:45 am]

BILLING CODE 4910-06-P